DEPARTMENT OF COMMERCE

International Trade Administration

Export Trade Certificate of Review

ACTION: Notice of application to amend an Export Trade Certificate of Review.

SUMMARY: The Office of Export Trading Company Affairs (“OETCA”), International Trade Administration, U.S. Department of Commerce, has received an application to amend an Export Trade Certificate of Review (“Certificate”). This notice summarizes the proposed amendment and requests comments relevant to whether the Certificate should be issued.

FOR FURTHER INFORMATION CONTACT: Jeffrey C. Anspacher, Director, Office of Export Trading Company Affairs, International Trade Administration, (202) 482-5131 (this is not a toll-free number) or by e-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a non-confidential version of the comments (identified as such) should be included. Any comments not marked privileged or confidential business information will be deemed to be non-confidential. An original and five (5) copies, plus two (2) copies of the non-confidential version, should be submitted no later than 20 days after the date of this notice to: Office of Export Trading Company Affairs, International Trade Administration, U.S. Department of Commerce, Room 1104H, Washington, DC 20230, or transmit by e-mail at oetca@ita.doc.gov. Information submitted by any person is exempt from disclosure under the Freedom of Information Act (5 U.S.C. 552). However, non-confidential versions of the comments will be made available to the applicant, if necessary, for determining whether or not to issue the Certificate. Comments should refer to this application as “Export Trade Certificate of Review, application number 85-10A18.”

A summary of the application for an amendment follows.

Summary of the Application

Applicant: U.S. Shippers Association (“USSA”), P.O. Box 67, East Texas, Pennsylvania 18046-0067.

Contact: Ronald Baumgarten, Jr., Counsel to Applicant, telephone: (202) 662-5265.

Application No.: 85-10A18.

Date Deemed Submitted: May 4, 2004.

The USSA original Certificate was issued on June 3, 1986 (51 FR 20873, June 9, 1986), and last amended on April 3, 2001 (66 FR 35773, July 9, 2001).

Proposed Amendment: USSA seeks to amend its Certificate to:

1. Add each of the following companies as a new “Member” of the Certificate within the meaning of section 325.2(l) of the Regulations (15 CFR 325.2(l) (2004)): Bayer CropScience, Research Triangle Park, North Carolina (Controlling Entity: Bayer Corporation, Bayer CropScience AG, D-40789 Monheim am Rhein, Germany); ConocoPhillips, Borger, Texas; and Solvay Chemicals, Inc., Houston, Texas (Controlling Entity: Solvay America, Inc., Houston, Texas).

2. Change the listing of the Members of the Certificate to reflect corporate organizational changes: Aventis Crop Science, USA LP to Bayer CropScience (Aventis Crop Science was acquired by Bayer Corporation); Phillips Petroleum Company merged with Conoco, Inc., to form ConocoPhillips; and Solvay Minerals, Inc., combined with Solvay Interox and Solvay Performance Chemicals to form Solvay Chemicals, Inc. (Controlling Entity: Solvay America, Inc.).

3. Delete the following members: Aventis Crop Science, USA LP, Research Triangle Park, North Carolina (Controlling Entity: Aventis Crop Science Holding SA, 69009 Lyon, France); Phillips Petroleum Company, Bartlesville, Oklahoma; and Solvay Minerals, Inc., Houston, Texas (Controlling Entity: Solvay S.A., Brussels, Belgium).

Dated: May 13, 2004.
Jeffrey C. Anspacher,
Director, Office of Export Trading Company Affairs.

[FR Doc. 04-11313 Filed 5-18-04; 8:45 am]

BILLING CODE 3510-DR-P